MERIT SYSTEMS PROTECTION BOARD

Agency Information Collection Activities; Reinstatement and Revision of a Previously Approved Information Collection; Comment Request

AGENCY: Merit Systems Protection Board.

ACTION: 60-Day notice and request for comments.

SUMMARY: The U.S. Merit Systems Protection Board (MSPB) is seeking to reinstate and revise a previously approved information collection in accordance with the Paperwork Reduction Act (PRA). The Information Collection Request (ICR) will be submitted to the Office of Management and Budget (OMB) pursuant to the Paperwork Reduction Act (PRA) of 1995 for review and clearance. This information collection, entitled, Customer Surveys, OMB Control No. 3124-0012, is part of MSPB's efforts to improve customer service delivery. The information collection instruments consist of short customer-focused surveys distributed through Qualtrics, MSPB's survey platform. In accordance with agency regulations, MSPB is requesting public comments. The purpose of this notice is to allow 60 days for public comment preceding submission of the collection to OMB.

DATES: Consideration will be given to all comments received by May 30, 2023.

ADDRESSES: Submit comments by using only one of the following methods:

(1) Email. Submit comments to privacy@mspb.gov.

(2) Mail. Submit comments to D. Fon Muttamara, Chief Privacy Officer, Office of the Clerk of the Board, U.S. Merit Systems Protection Board, 1615 M Street NW, Washington, DC 20419.

(3) Fax. Submit comments to (202) 653-7130.

All comments must reference OMB Control No. 3124-0012. Regardless of the method used for submitting comments or material, all submissions will be posted, without change, to MSPB's website (www.mspb.gov) and will include any personal information you provide. Therefore, submitting this information makes it public.

FOR FURTHER INFORMATION CONTACT: D. Fon Muttamara, Chief Privacy Officer, at privacy@mspb.gov. You may submit written questions to the Office of the Clerk of the Board by any of the following methods: by email to privacy@mspb.gov or by mail to Clerk of the Board, U.S. Merit Systems Protection Board, 1615 M Street NW, Washington, DC 20419. Please reference OMB Control No. 3124-0012 with your questions.

SUPPLEMENTARY INFORMATION: MSPB intends to request approval for a reinstatement and revision of a previously approved information collection and seeks a three-year renewal of its MSPB's Generic Clearance Request for Voluntary Customer Surveys, OMB Control No. 3124-0012. Executive Order 12862, Setting Customer Service Standards, mandates that agencies identify their customers and survey them to determine the kind and quality of services they want and their level of satisfaction with existing services. In addition, OMB Circular A-11, Part 6, Section 280—Managing Customer Experience and Improving Service Delivery, provides guidelines for gathering customer feedback. More recently, the 21st Century Integrated Digital Experience Act (IDEA) requires agencies to use quantitative data from their public-facing websites to improve digital service delivery (Pub. L. 115-336).

Customers and stakeholders include persons who file appeals with MSPB on agency action taken against them (appellants), their representatives, and representatives of the agency which took the action; and Federal officials and members of the public (academicians, researchers, consultants, and web users) who read and use the findings of reports issued by MSPB's Office of Policy and Evaluation (OPE) or who are interested in MSPB's role in overseeing the Office of Personnel Management.

Over the past several years, OPE has used customer satisfaction surveys to evaluate how well MSPB is serving its customers in terms of their perceptions of agency timeliness, fairness, accessibility, and sensitivity in deciding appeals. OPE has also used customer surveys to determine the usefulness of reports issued. As a result of the survey feedback, OPE has established baseline performance measures for both appeals processing and merit systems review responsibilities. OPE has instituted a number of changes to both these processes as a result of feedback obtained from stakeholders. OPE plans to use customer surveys periodically over the next three years to measure the success of changes and to attempt to identify additional areas where improvements can be made. Stakeholder views are important measures which may be used to report agency performance under the Government Results and Performance Act (GPRA) as amended by the GPRA Modernization Act of 2010.

Title: Agency Information Collection Activities; Reinstatement and Revision of a Previously Approved Information Collection.

OMB Number: 3124-0012.

Type of Information Collection: This is a request for reinstatement and revision of a previously approved information collection.

ICR Status: MSPB intends to request approval for reinstatement and revision of a previously approved information collection from the OMB under the PRA of 1995. An agency may not conduct or sponsor, and a person is not required to respond to, a collection of information unless it displays a currently valid OMB control number.

Abstract of Proposed Collection: This collection is part of MSPB's compliance efforts pursuant to Executive Order 12862, Setting Customer Service Standards, which mandates that agencies identify their customers and survey them to determine the kind and quality of services they want and their level of satisfaction with existing services. Responses to any collection of information under this ICR are voluntary.

Affected Public: Individuals and Households; Businesses and Organizations.

Estimated Total Number of Respondents: 600.

Estimated Frequency of Responses: Once per year.

Estimated Total Average Number of Responses for Each Respondent: Once per year.

Estimated Total Annual Burden Hours: 300.

Estimated Total Cost: $11,370.

Comments: Comments should be submitted as indicated in the ADDRESSES caption above. Comments are solicited to: (a) evaluate whether the collection of information is necessary for the proper performance of the functions of MSPB, including whether the information shall have practical utility; (b) evaluate the accuracy of MSPB's estimate of the burden of the collection of information; (c) enhance the quality, utility, and clarity of the information to be collected; (d) minimize the burden of the collection of information on respondents, including through the use of automated collection techniques or other forms of information technology; and (e) evaluate the estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Jennifer Everling,
Acting Clerk of the Board.

[FR Doc. 2023-06356 Filed 3-27-23; 8:45 am]

BILLING CODE 7400-01-P